DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Community-based Restoration Program Progress Reports.

OMB Control Number: 0648-0472.

Form Number(s): None.

Type of Request: Regular submission.

Burden Hours: 4,145.

Number of Respondents: 250.

Average Hours per Response: Semi-annual reports, 7 hours (plus 30 minutes for additional questions for specified larger grantees); and annual reports, 11 hours and 15 minutes (plus one hour for additional questions for specified larger grantees).

Needs and Uses: Authorized by the Magnuson-Stevens Fishery Conservation and Management Act and the Fish and Wildlife Coordination Act, this collection is needed to assist with the administration and evaluation of the NOAA Community-based Restoration Program (CRP), which has provided financial assistance on a competitive basis to over 1,200 habitat restoration projects since 1996. The information is used to provide accountability for the CRP and NOAA on the expenditure of federal funds used for restoration, contributes to the Government Performance and Results Act (GPRA) “acres restored” measure, and to the President's Wetlands Initiative goal of 3 million acres of wetland restoration, enhancement and protection by 2010. Information is required only from parties receiving CRP funds.

The NOAA Restoration Center (Center) will continue collecting the same information; however, the Center is requesting to begin to use the SF-PPR (Performance Progress Reports) family of forms, a set of uniform reporting formats used for standard reporting by recipients on their performance under grants and cooperative agreements. This transition is in anticipation of government-wide standardization.

Affected Public: Not-for-profit organizations, State, Local or Tribal Government, business or other for-profit organizations.

Frequency: Semi-annually and annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 18, 2009.
Gwellnar Banks,
Management Analyst, Office of the Chief Information Officer.

[FR Doc. E9-11960 Filed 5-21-09; 8:45 am]

BILLING CODE 3510-22-P